DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Evaluation of the National Guideline Clearinghouse.” In accordance with the Paperwork Reduction Act, 44 U.S.C. 3501-3520, AHRQ invites the public to comment on this proposed information collection.

DATES: Comments on this notice must be received by November 16, 2010.

ADDRESSES: Written comments should be submitted to: Doris Lefkowitz, Reports Clearance Officer, AHIRQ, by e-mail at doris.lefkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@AHRO.hhs.gov.

SUPPLEMENTARY INFORMATION:

Proposed Project

Evaluation of the National Guideline Clearinghouse

The mission of the Agency for Healthcare Research and Quality (AHRQ) is to enhance the quality, appropriateness, and effectiveness of Health services, and access to such services, through the establishment of a broad base of scientific research and through the promotion of improvements in clinical and health system practices, including the prevention of diseases and other health conditions. 42 U.S.C. 299(b). AHRQ supports the dissemination of evidence-based guidelines through its National Guideline Clearinghouse™ (NGC).

The NGC serves as a publicly accessible Web-based database of evidence-based clinical practice guidelines meeting explicit criteria. The NGC also supports AHRQ's strategic goal on effectiveness: to improve health care outcomes by encouraging the use of evidence to make informed health care decisions. The NGC is a vehicle for such encouragement. The mission of the NGC is to provide physicians, nurses, and other health professionals, health care providers, health plans, integrated delivery systems, purchasers and others an accessible mechanism for obtaining objective, detailed information on clinical practice guidelines and to further their dissemination, implementation and use.

AHRQ proposes to conduct a comprehensive evaluation of the NGC. This evaluation will build on the site trends AHIRQ has already identified, including growth from 70,000 to 700,000 visits per month, 600 to approximately 40,000 e-mail subscribers, 250 to 2,370 guidelines represented, and 50 to nearly 300 participating guideline developer organizations from July 1999 to July 2009.

The objectives of the NGC evaluation are to gain a better understanding of how:

• The NGC is used.

• The NGC supports dissemination of evidence-based clinical practice guidelines and related documents.

• The NGC has influenced efforts in guideline development and guideline implementation and use.

• The NGC can be improved.

This study is being conducted by AHRQ through its contractor, AFYA, Inc. and The Lewin Group (AFYA/Lewin), pursuant to AJ4RQ's statutory authority to conduct and support research and disseminate information on healthcare and on systems for the delivery of such care, including activities with respect to clinical practice. 42 U.S.C. 299a(a)(4).

Method of Collection

To achieve the objectives of this project the following data collections will be implemented:

(1) NGC evaluation survey—a web-based survey administered to a convenience sample of both users and non-users of the NGC,

(2) Focus groups—conducted with guideline developers, medical librarians, informatics specialists, clinicians, and students, and

(3) Key informant interviews—in-person interviews conducted with influential individuals in medical societies, health plans, and quality improvement organizations as well as medical librarians, researchers, and informatics specialists who produce, use, and disseminate guidelines.

Questions in the survey, focus group, and key informant discussion guides will focus on the effectiveness of NGC in areas of dissemination, implementation, and use of evidence-based clinical practice guidelines, and relative to other available guideline sources. For example, measures to be gathered through the instruments include the level of trust of the NGC, the use of the NGC relative to other guideline sources, and the influence of the NGC on various stakeholder groups. In addition, the instruments will be used to measure the use of other guideline resources which are used by non-NGC users.

Estimated Annual Respondent Burden

Exhibit 1 shows the estimated annualized burden hours for the respondents' time to participate in this evaluation. The NGC evaluation questionnaire will be completed by approximately 40,220 persons and will require 10 minutes to complete for users of the NGC and about 2 minutes for non-users. For the purpose of calculating respondent burden an average of 8 minutes is used and reflects a mix of users and non-users with most respondents expected to be users.

Eleven different focus groups consisting of 9 persons each will be conducted and are expected to last 90 minutes each. Key informant interviews will be conducted with 30 individuals and will last about 60 minutes. The total annual burden hours are estimated to be 5,542 hours.

Exhibit 2 shows the estimated annualized cost burden based on the respondents' time to participate in this project. The total annual cost burden is estimated to be $185,712.

Exhibit 1—Estimated Annualized Burden Hours
Data collection method | Number of respondents | Number of responses per respondent | Hours per response | Total burden hours
NGC Evaluation Survey | 40,220 | 1 | 8/60 | 5,363
Focus Groups | 99 | 1 | 1.5 | 149
Key Informant Interviews | 30 | 1 | 1 | 30
Total | 40,349 | NA | NA | 5,542

Exhibit 2—Estimated Annualized Cost Burden
Data collection method | Number of respondents | Total burden hours | Average hourly wage rate* | Total cost burden
NGC Evaluation Survey | 40,220 | 5,363 | $33.51 | $179,714
Focus Groups | 99 | 149 | 33.51 | 4,993
Key Informant Interviews | 30 | 30 | 33.51 | 1,005
Total | 40,349 | 5,542 | NA | 185,712
* Based upon the mean of the average wages for healthcare practitioner and technical occupations (29-0000) presented in the National Compensation Survey: Occupational wages in the United States, May 2009, U.S. Department of Labor, Bureau of Labor Statistics.

Estimated Annual Costs to the Federal Government

Exhibit 3 shows the estimated total and annualized cost to the government for this one year project. The total cost is estimated to be $350,000 to conduct the one-time survey, 11 focus groups, and 30 key informant interviews and to analyze and present their results. This amount is the contract total for AFYA's contract with AHRQ to evaluate the NGC. This amount includes the costs for project development and management ($70,000 or 20% of the entire contract amount); data collection activities ($105,000 or 30% of the entire contract amount); data processing and analysis ($70,000 or 20% of the entire contract amount); and administrative support activities and reporting ($105,000 or 30% of the entire contract amount).

Exhibit 3—Estimated Total and Annualized Cost
Cost component | Total cost | Annualized cost
Project Development and Management | $70,000 | $70,000
Data Collection Activities | 105,000 | 105,000
Data Processing and Analysis | 70,000 | 70,000
Administrative Support and Reporting | 105,000 | 105,000
Total | 350,000 | 350,000

Request for Comments

In accordance with the above-cited Paperwork Reduction Act legislation, comments on AHRQ's information collection are requested with regard to any of the following: (a) Whether the proposed collection of information is necessary for the proper performance of AHRQ healthcare research and healthcare information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: September 1, 2010.
Carolyn M. Clancy,
Director.

[FR Doc. 2010-23110 Filed 9-16-10; 8:45 am]

BILLING CODE 4160-90-M